DEPARTMENT OF TRANSPORTATION

Coast Guard

46 CFR Part 15

[USCG 1999-6097]

Federal Pilotage for Foreign-Trade Vessels in Maryland

AGENCY: Coast Guard, DOT.

ACTION: Notice of public meeting and extension of comment period.

SUMMARY: The Coast Guard is holding a public meeting to solicit comments on a proposed change to the licensing requirements for pilots of vessels engaged in foreign trade, under way on the navigable waterways within the State of Maryland. We have proposed to require that such vessels be under the direction and control of Federally-licensed pilots when not under the direction and control of State-licensed pilots. Because of substantial interest, we have scheduled a public meeting on March 1, 2000, regarding the proposed rule, and we have extended the public comment period until April 1, 2000. We encourage you to provide oral and written comments about the proposed change.

DATES: The public meeting is scheduled for Wednesday, March 1, 2000, from 7 p.m. to 10 p.m. The meeting will convene at 7 p.m.; however, it may conclude before 10 p.m. if we finish early. Comments and related material must reach the Docket Management Facility on or before April 1, 2000.

ADDRESSES: The public meeting will be held at the Bachelors Officers' Quarters (B.O.Q.) conference room at the Coast Guard Yard, Building 28A, 2401 Hawkins Point Road, Baltimore, MD 21226-1791.

Because of heightened security considerations on Federal installations, we will require photo identification (a driver's license, merchant mariner's document, or State identification) for admittance to the Coast Guard Yard. Please register in advance of the meeting with Mr. Timothy Farley, Office of Investigations and Analysis (G-MOA), Coast Guard, phone 202-267-1414, e-mail Tfarley@comdt.uscg.mil. For security and organizational purposes, we want to know your name and whether you intend to speak at the meeting. The resulting list will assist security guards at the gate and provide the order of speakers at the meeting. Individuals who do not call in advance may be required to sign in at the gate. Vehicles and possessions are subject to search pursuant to Title 41 of the Code of Federal Regulations, part 101-20.

To make sure your comments and related material are not entered more than once in the docket, please submit them by only one of the following means:

(1) By mail to the Docket Management Facility (USCG 1999-6097), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this proposed rule, contact Mr. Timothy Farley, Office of Investigations and Analysis (G-MOA), Coast Guard, telephone 202-267-1414, e-mail Tfarley@comdt.uscg.mil; or you may contact Lieutenant Michael Dreier, Office of Standards, Evaluation and Development (G-MSR), Coast Guard, telephone 202-267-6490, e-mail Mdreier@comdt.uscg.mil. For questions on viewing or submitting material to the docket, call Dorothy Walker, Chief, Dockets, Department of Transportation at 202-366-9329.

SUPPLEMENTARY INFORMATION:

Request for Comments

We encourage you to participate in this rulemaking by submitting comments and related material. If you do so, please include your name and address, identify the docket number for this rulemaking (USCG 1999-6097), indicate the specific section of this document to which each comment applies, and give the reason for each comment. You may submit your comments and material by mail, delivery, fax, or electronic means to the Docket Management Facility at the address under ADDRESSES but please submit your comments and material by only one means. If you submit them by mail or delivery, submit them in an unbound format, no larger than 8½ by 11 inches, suitable for copying and electronic filing. If you submit them by mail and would like to know they reached the facility, please enclose a self-addressed, stamped postcard or envelope. We will consider all comments and material received during the comment period. We may change this proposed rule in view of the comments.

Information on Services for Individuals With Disabilities

For information on facilities or services for individuals with disabilities, or to request special assistance at the meeting, contact Mr. Timothy Farley, phone 202-267-1414, e-mail Tfarley@comdt.uscg.mil, as soon as possible.

Background and Purpose

Under 46 U.S.C. 8503(a) the Secretary of Transportation may require a Federally-licensed pilot to be aboard a self-propelled vessel engaged in foreign trade and operating on the navigable waters of the United States when State law does not require a pilot. 46 U.S.C. 8503(b) provides the Coast Guard the authority to require Federally-licensed pilots on vessels engaged in foreign trade. This authority terminates when the State having jurisdiction establishes a superseding requirement for a State pilot and notifies the Coast Guard of that fact.

Commercial vessels transit the navigable waters of the State of Maryland carrying various types of freight, oil, and hazardous substances and materials, as well as large quantities of bunkers. Under Maryland law [General Statutes of Maryland, § 11-501], every vessel (foreign or domestic) sailing under register must use a State-licensed pilot if it is under the control of a docking master while maneuvering with tug assistance during berthing or unberthing, or shifting within a port. Maryland does not license, establish qualifications for, or regulate the competency of docking masters. Although all docking masters now operating in the Port of Baltimore already hold valid Federal pilots' licenses (or pilotage endorsements on Federal licenses), holding these is voluntary and is as yet neither a State nor a Federal requirement. Anyone may serve as a docking master, and, by law, no one needs to demonstrate proficiency or competency to do so.

We have determined that it is unsafe for certain vessels to undertake intra-port transits, or otherwise navigate in the waters of the State of Maryland, except when under the direction and control of pilots accountable to the State or the Coast Guard. Operating these vessels with docking masters who are either not licensed (or endorsed) as Federal or State pilots or not operating under the authority of pilots' licenses presents an unacceptable risk to human life, property, and the environment.

To ensure accountability, the Coast Guard proposed changes to its licensing regulations in a notice of proposed rulemaking entitled, “Federal Pilotage for Foreign-Trade Vessels in Maryland” [October 21, 1999 (64 FR 56720)]. These changes would require persons providing pilotage to operate under the authority of either a valid State or a valid Federal pilot's license. The proposed rule would add a new section to Subpart I of 46 CFR part 15 to require that a foreign-trade vessel be under the direction and control of a Federally-licensed pilot when operating in designated waters of Baltimore Harbor from the Key Bridge to moor, except when under the direction and control of a State-licensed pilot operating under the authority of his or her State license.

The rule would ensure that vessels are navigated by competent, qualified persons, knowledgeable in the local area and accountable to either the State or the Coast Guard. It would also promote navigational safety by increasing the level of accountability and reducing the risk of marine casualties in the waters of Maryland.

Dated: February 2, 2000.
Joseph J. Angelo,
Acting Assistant Commandant for Marine Safety and Environmental Protection.

[FR Doc. 00-2894 Filed 2-8-00; 8:45 am]

BILLING CODE 4910-15-P